FEDERAL ENERGY REGULATORY COMMISSION

Notice of Application Accepted for Filing, Soliciting Motions To Intervene and Protests

April 4, 2005.

Take notice that the following hydroelectric application has been filed with the Commission and is available for public inspection.

a. Type of Application: New major license.

b. Project No.: 11945-001.

c. Date Filed: June 30, 2004.

d. Applicant: Symbiotics, LLC (Symbiotics/Applicant).

e. Name of Project: Dorena Lake Dam Hydroelectric Project.

f. Location: On the Row River, near the Town of Cottage Grove, Lane County, Oregon. The project would occupy less than one acre of Federal lands administered by the U.S. Army Corps of Engineers.

g. Filed Pursuant to: Federal Power Act 16 U.S.C. 791(a)-825(r).

h. Applicant Contact: Brent L. Smith, Northwest Power Services, Inc., PO Box 535, Rigby, Idaho 83442, (208) 745-0834 or by e-mail to bsmith@nwpwrservices.com.

i. FERC Contact: Dianne Rodman, Federal Energy Regulatory Commission, 888 First Street, NE., Washington, DC 20426; telephone (202) 502-6077 or by e-mail at Dianne.rodman@ferc.gov.

j. Deadline for filing motions to intervene and protests is 60 days from the issuance of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “e-Filing” link.

k. This application has been accepted for filing, but is not ready for environmental analysis at this time.

l. The proposed project would utilize the U.S. Army Corps of Engineers' existing Dorena Lake dam and reservoir, and would consist of the following facilities: (1) A 9-foot-diameter steel pipe, about 350 feet long, extending from the reservoir through the north dam abutment; (2) a new powerhouse, near the existing spillway stilling basin 250 feet downstream from the concrete section of the dam, having a total installed capacity of 8,300 kilowatts; (3) a new concrete-lined channel discharging flows into the river channel immediately below the existing stilling basin; (4) a new valve house near the existing stilling basin; (5) a new 15-kilovolt underground transmission line, about 500 feet long; and (6) appurtenant facilities. The average annual generation is estimated to be 17.5 gigawatt hours.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

n. Anyone may submit a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via e-mail of new filings and issuances related to this or other pending projects. For assistance, contact FERC Online Support.

Magalie R. Salas,
Secretary.

[FR Doc. E5-1644 Filed 4-8-05; 8:45 am]

BILLING CODE 6717-01-P